FEDERAL COMMUNICATIONS COMMISSION

Meeting Notice Correction

AGENCY: Federal Communications Commission.

ACTION: Notice of meeting correction.

SUMMARY: The Federal Communications Commission published a document in the Federal Register on February 15, 2002 announcing a meeting of the Network Reliability and Interoperability Council to be held on Monday, March 22. The document incorrectly specified that March 22 was a Monday.

FOR FURTHER INFORMATION CONTACT: Robert Kimball at 202-418-2339 or TTY 202-418-2989.

Correction

In the Federal Register of February 15, 2002 in FR Doc. 02-3696, on page 7178, correct the DATES caption to read:

DATES: Friday, March 22, 2002 at 10 a.m. to 1 p.m.

Federal Communications Commission.
William F. Caton,
Acting Secretary.

[FR Doc. 02-5255 Filed 3-4-02; 8:45 am]

BILLING CODE 6712-01-P